DEPARTMENT OF HEALTH AND HUMAN SERVICES

Centers for Disease Control and Prevention

[30Day-18-0278]

Agency Forms Undergoing Paperwork Reduction Act Review

In accordance with the Paperwork Reduction Act of 1995, the Centers for Disease Control and Prevention (CDC) has submitted the information collection request titled National Hospital Ambulatory Medical Care Survey (NHAMCS) to the Office of Management and Budget (OMB) for review and approval. CDC previously published a “Proposed Data Collection Submitted for Public Comment and Recommendations” notice on November 27, 2017 to obtain comments from the public and affected agencies. CDC received one comment related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW, Washington, DC 20503 or by fax to (202) 395-5806. Provide written comments within 30 days of notice publication.

Proposed Project

National Hospital Ambulatory Medical Care Survey (NHAMCS) (OMB Control Number 0920-0278, Expiration 02/28/2018)—Reinstatement with change—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on “utilization of health care” in the United States. The National Hospital Ambulatory Medical Care Survey (NHAMCS) has conducted annually since 1992. NCHS is seeking OMB approval to reinstate this survey for an additional three years, following a brief discontinuation on February 28, 2018.

The target universe of the NHAMCS is in-person visits made to emergency departments (EDs) of non-Federal, short-stay hospitals (hospitals with an average length of stay of less than 30 days) that have at least six beds for inpatient use, and with a specialty of general and medical, maternity, children's general, or long term acute care.

NHAMCS was initiated to complement the National Ambulatory Medical Care Survey (NAMCS, OMB Control Number 0920-0234, Expiration 03/31/2019), which provides similar data concerning patient visits to physicians' offices. NAMCS and NHAMCS are the principal sources of data on ambulatory care provided in the United States.

NHAMCS provides a range of baseline data on the characteristics of the users and providers of hospital ambulatory medical care. Data collected include patients' demographic characteristics, reason(s) for visit, providers' diagnoses, diagnostic services, medications, and disposition. These data, together with trend data, may be used to monitor the effects of change in the health care system, for the planning of health services, improving medical education, determining health care work force needs, and assessing the health status of the population.

Starting 2018, CDC will implement just the ED component of NHAMCS. However, once reinstated the 2017 survey will run concurrently with the 2018 survey until the final months of pending 2017 data collection have been completed. This is typical with any data collection cycle: It begins in the last month of the preceding year and ends around the middle of the following year. For the 2017 data collection, CDC will collect information on all three settings (ED, OPD, and ASL). For this three-year request, CDC does not expect substantive changes or supplements for the survey.

Users of NHAMCS data include, but are not limited to, congressional offices, Federal agencies, state and local governments, schools of public health, colleges and Universities, private industry, nonprofit foundations, professional associations, clinicians, researchers, administrators, and health planners.

There are no costs to the respondents other than their time. The total estimated annualized burden hours are 1,251.

Estimated Annualized Burden Hours
Type of respondents | Form name | Number of respondents | Number of responses per respondent | Average burden per response (in hours)
Hospital Chief Executive Officer | Hospital Induction 2017 Data Collection | 20 | 1 | 75/60
Hospital Chief Executive Officer | Hospital Induction 2018+ Data Collection | 340 | 1 | 45/60
Ancillary Service Executive | Ambulatory Unit Induction (ED, OPD and ASL) | 840 | 1 | 15/60
Ancillary Service Executive | Ambulatory Unit Induction (ED only) | 578 | 1 | 15/60
Medical Record Clerk | Retrieving Patient Records (2017 and 2018+ ED, OPD and ASL) | 360 | 102 | 1/60
Ancillary Service Executive—Reabstraction | 2018+ Reabstraction Telephone Call (1)ED only | 17 | 1 | 5/60
Medical Record Clerk—Reabstraction | 2018+ Pulling and re-filing Patient Records (1)ED only | 17 | 10 | 1/60

Leroy A. Richardson,
Chief, Information Collection Review Office, Office of Scientific Integrity, Office of the Associate Director for Science, Office of the Director, Centers for Disease Control and Prevention.

[FR Doc. 2018-08164 Filed 4-18-18; 8:45 am]

BILLING CODE 4163-18-P